DEPARTMENT OF THE INTERIOR

National Park Service

[NPS-WASO-NRNHL-12867; PPWOCRADI0, PCU00RP14.R50000]

National Register of Historic Places; Notification of Pending Nominations and Related Actions

Nominations for the following properties being considered for listing or related actions in the National Register were received by the National Park Service before April 13, 2013. Pursuant to section 60.13 of 36 CFR part 60, written comments are being accepted concerning the significance of the nominated properties under the National Register criteria for evaluation. Comments may be forwarded by United States Postal Service, to the National Register of Historic Places, National Park Service, 1849 C St. NW, MS 2280, Washington, DC 20240; by all other carriers, National Register of Historic Places, National Park Service, 1201 Eye St. NW, 8th floor, Washington, DC 20005; or by fax, 202-371-6447. Written or faxed comments should be submitted by May 21, 2013. Before including your address, phone number, email address, or other personal identifying information in your comment, you should be aware that your entire comment—including your personal identifying information—may be made publicly available at any time. While you can ask us in your comment to withhold your personal identifying information from public review, we cannot guarantee that we will be able to do so.

Dated: April 18, 2013.
J. Paul Loether,
Chief, National Register of Historic Places/National Historic Landmarks Program.

ARKANSAS

Columbia County

President's House, E. Farm Rd., Magnolia, 13000315

Rushton Clinic, The, 219 N. Washington St., Magnolia, 13000316

Washington County

Fletcher, Adrian, House (Arkansas Designs of E. Fay Jones MPS), 6725 Huntsville Rd., Fayetteville, 13000317

FLORIDA

Collier County

Bay City Walking Dredge, 20200 E. Tamiami Trail, Naples, 13000318

Lee County

Dean Park Historic Residential District, Bounded by 1st St., Palm, Michigan & Evans Aves., Fort Myers, 13000319

Sarasota County

Nokomis Beach Pavilion (Sarasota School of Architecture MPS), 100 Casey Key Rd., Nokomis, 13000320

MICHIGAN

Genesee County

United States Post Office, 600 Church St., Flint, 13000321

Wayne County

United States Immigration Station, 333 Mount Elliott St., Detroit, 13000322

MINNESOTA

Hennepin County

Hotel Maryland, 1346 LaSalle Ave., Minneapolis, 13000323

Long Meadow Bridge (Iron and Steel Bridges in Minnesota MPS), Old Cedar Ave. at Minnesota R., Bloomington, 13000324

Minnesota Linseed Oil Company, 1101 S. 3rd St. & 312 11th Ave., S., Minneapolis, 13000325

Otter Tail County

Prospect House, 403 Lake Ave., N., Battle Lake, 13000326

Winona County

Chicago, Milwaukee and St. Paul Railway Station, 65 E. Mark St., Winona, 13000327

NEW YORK

Dutchess County

LaGrange District School, 2 Doctor Fink Rd., Freedom Plains, 13000328

Erie County

Meldrum, H.J., Company Building, 265-267 Pearl St., Buffalo, 13000330

Essex County

Keith and Branch Ford Motors Factory and Showroom, 12198 NY 9N, Upper Jay, 13000329

Otsego County

Mathewson—Bice Farmhouse and Mathewson Family Cemetery, 204 Bice Rd., Cooperstown, 13000331

OREGON

Benton County

Independent School, 25381 SW. Airport Ave., Benton, 13000332

SOUTH CAROLINA

Newberry County

Oak Grove, 921 Jessica Ave., Newberry, 13000333

VIRGINIA

Alexandria Independent city

Goodman, Charles M., House, 510 N. Quaker Ln., Alexandria (Independent City), 13000334

Amherst County

Dulwich Manor, 550 Richmond Hwy., Amherst, 13000335

Fairfax County

Lexington, 7301 High Point Rd., Lorton, 13000336

Hopewell Independent city

Downtown Hopewell Historic District (Boundary Increase and Decrease), E. Broadway Ave., E. City Point Rd., E. Cawson, Hopewell, N. Main & E. Poythress Sts., Hopewell (Independent City), 13000337

Lynchburg Independent city

Rivermont Historic District (Boundary Increase), 200 Boston Ave., Lynchburg (Independent City), 13000338

Mathews County

Springdale, 1108 New Point Comfort Hwy., Mathews, 13000339

Montgomery County

Christiansburg Downtown Historic District, E. & W. Main, N. & S. Franklin Sts., Christiansburg, 13000340

Nottoway County

Hyde Park, 6808 W. Courthouse Rd., Burkeville, 13000341

Pittsylvania County

Gretna Commercial Historic District, N. & S. Main & Henry Sts., Gretna, 13000342

Rappahannock County

Locust Grove—Luttrell, R.E. Farmstead, 24 Bunree Ln., Amissville, 13000343

Sussex County

Waverly Downtown Historic District, Roughly surrounding W. Main St. from County Dr. W. to Coppahaunk Ave., Waverly, 13000344

Washington County

Glade Spring Commercial Historic District, Parts of Town Square, Grace, E. Glade & Hemlock Sts., Glade Spring, 13000345

[FR Doc. 2013-10586 Filed 5-3-13; 8:45 am]

BILLING CODE 4312-51-P